DEPARTMENT OF ENERGY

Federal Energy Regulatory Commission

[Docket No. RP03-465-001]

ANR Pipeline Company; Notice of Compliance Filing

June 19, 2003.

Take notice that on June 13, 2003, ANR Pipeline Company (ANR) tendered for filing as part of its FERC Gas Tariff, Second Revised Volume No. 1, Thirty-Sixth Revised Sheet No. 17, to be effective June 1, 2003.

ANR states that the filing is being filed in compliance with the Commission's order issued on May 30, 2003, in the above-captioned docket. ANR Pipeline Company, 103 FERC § 61,252 (2003).

ANR states that the tariff sheet includes a cashout price negative surcharge equal to $0.0004 per dth, to be effective on June 1, 2003.

Any person desiring to protest said filing should file a protest with the Federal Energy Regulatory Commission, 888 First Street, NE., Washington, DC 20426, in accordance with § 385.211 of the Commission's rules and regulations. All such protests must be filed in accordance with § 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: June 25, 2003.

Magalie R. Salas,
Secretary.

[FR Doc. 03-16210 Filed 6-25-03; 8:45 am]

BILLING CODE 6717-01-P